DEPARTMENT OF HEALTH AND HUMAN SERVICES

National Institutes of Health

National Cancer Institute; Amended Notice of Meeting

Notice is hereby given of a change in the meeting of the National Cancer Institute Special Emphasis Panel, January 27, 2015 08:00 a.m. to January 28, 2015, 06:00 p.m., Bethesda North Marriott & Conference Center, Bethesda, MD 20852 which was published in the Federal Register on November 5, 2014, 79FR65678.

The meeting notice is amended to change the title of the meeting from “NCI Program Project Meeting II” to “NCI Program Project Meeting I”. The meeting is closed to the public.

Dated: December 9, 2014.
Melanie J. Gray,
Program Analyst, Office of Federal Advisory Committee Policy.

[FR Doc. 2014-29159 Filed 12-11-14; 8:45 am]

BILLING CODE 4140-01-P